FEDERAL COMMUNICATIONS COMMISSION

[FR ID 232649]

Open Commission Meeting Thursday, July 18, 2024

July 11, 2024.

The Federal Communications Commission will hold an Open Meeting on the subjects listed below on Thursday, July 18, 2024, which is scheduled to commence at 10:30 a.m. in the Commission Meeting Room of the Federal Communications Commission, 45 L Street NE, Washington, DC.

While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | Wireline Competition | Title: Incarcerated People's Communications Services; Implementation of the Martha Wright-Reed Act (WC Docket No. 23-62); Rates for Interstate Inmate Calling Services (WC Docket No. 12-375).
|  | Summary: The Commission will consider a Report and Order, Order on Reconsideration, Clarification and Waiver, and Further Notice of Proposed Rulemaking that would implement the Martha Wright-Reed Just and Reasonable Communications Act of 2022 by adopting just and reasonable rate caps for incarcerated people's audio and video communications services, among other reforms. The Further Notice would seek comment on additional reforms for incarcerated people's communications services.
2 | Wireline Competition | Title: Modernizing E-Rate to Support Wi-Fi Hotspots (WC Docket No. 21-31).
|  | Summary: The Commission will consider a Report and Order and Further Notice of Proposed Rulemaking that would update the E-Rate program rules to make the off-premises use of Wi-Fi hotspots and wireless Internet services eligible for E-Rate program support.
3 | Wireless Tele-Communcations | Title: Promoting Consumer Choice and Wireless Competition Through Handset Unlocking Requirements and Policies (WT Docket No. 24-186).
|  | Summary: The Commission will consider a Notice of Proposed Rulemaking that would propose the use of broadly applicable handset unlocking policies as a means to improve consumer choice and flexibility, to enhance competition across the mobile wireless marketplace, and to provide for more uniform regulation of service providers.
4 | Public Safety and Homeland Security | Title: Facilitating Implementation of Next Generation 911 Services (NG911) (PS Docket No. 21-479); Location-Based Routing for Wireless 911 Calls (PS Docket No. 18-64).
|  | Summary: The Commission will consider a Report and Order that would expedite the transition to NG911 and help ensure that the nation's 911 system functions effectively with the most advanced capabilities available.
5 | Media | Title: Accessibility of User Interfaces, and Video Programming Guides and Menus (MB Docket No. 12-108).
|  | Summary: The Commission will consider a Report and Order that would ensure that consumers are able to readily access user display settings for closed captioning on covered video devices.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairwoman may hold a news conference in which she will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Federal Communications Commission.
Marlene Dortch,
Secretary.

[FR Doc. 2024-15723 Filed 7-16-24; 8:45 am]

BILLING CODE 6712-01-P